DEPARTMENT OF AGRICULTURE

Agricultural Marketing Service

7 CFR Parts 56 and 70

[Docket No. AMS-PY-08-0030; PY-06-002]

Increase in Fees and Charges for Egg, Poultry, and Rabbit Grading; Correction

AGENCY: Agricultural Marketing Service, USDA.

ACTION: Correcting amendments.

SUMMARY: This document contains corrections to the final regulations that were published in the Federal Register on Wednesday, March 14, 2007 (72 FR 11773) related to the fees and charges for Federal voluntary egg, poultry, and rabbit grading found in sections 7 CFR 56.54(a)(2), 7 CFR 70.76(a)(2) and 7 CFR 70.77(a)(5). The final regulations that are the subject of these corrections were to increase the minimum fees for rabbit grading and for non-resident egg and poultry grading services that had been effective since September 25, 2005. Although the increases were included in the supplementary information, they were inadvertently omitted in the regulatory language.

DATES: Effective Date: May 15, 2008.

FOR FURTHER INFORMATION CONTACT: David Bowden, Jr., Chief, USDA, AMS, PY, Standards, Promotion and Technology Branch (202) 690-3148.

SUPPLEMENTARY INFORMATION: The docket provides correcting amendments to Marketing Orders 56 and 70, found respectively at 7 CFR part 56 and part 70.

List of Subjects

7 CFR Part 56

Eggs and egg products, Food grades and standards, Food labeling, Reporting and recordkeeping requirements.

7 CFR Part 70

Food grades and standards, Food labeling, Poultry and Poultry products, Rabbits and rabbit products, Reporting and recordkeeping requirements.

Accordingly, 7 CFR, parts 56 and 70 are corrected by making the following correcting amendments:

PART 56—VOLUNTARY GRADING OF SHELL EGGS

1. The authority citation for part 56 continues to read as follows:

Authority: 7 U.S.C. 1621-1627.

§ 56.54 [Amended]

2. In § 56.54, paragraph (a)(2) is amended by removing the figure “$260” and adding the figure “$275” in its place.

PART 70—VOLUNTARY GRADING OF POULTRY PRODUCTS AND RABBIT PRODUCTS

3. The authority citation for part 70 continues to read as follows:

Authority: 7 U.S.C. 1621-1627.

§ 70.76 [Amended]

4. In § 70.76, paragraph (a)(2) is amended by removing the figure “$260” and adding the figure “$275” in its place.

§ 70.77 [Amended]

5. In § 70.77, paragraph (a)(5) is amended by removing the figure “$260” and adding the figure “$275” in its place.

Dated: May 9, 2008.
Lloyd C. Day,
Administrator, Agricultural Marketing Service.

[FR Doc. E8-10821 Filed 5-14-08; 8:45 am]

BILLING CODE 3410-02-P